DEPARTMENT OF AGRICULTURE

Forest Service

Hoosier National Forest, IN; German Ridge Restoration Project

AGENCY: Forest Service, USDA.

ACTION: Notice of intent to prepare a supplement to an environmental impact statement.

SUMMARY: The USDA Forest Service, Hoosier National Forest intends to prepare a supplement to an environmental impact statement (EIS) that discloses the environmental consequences of a vegetation restoration project. In the supplement to the EIS, the USDA Forest Service will bring the document and the project into compliance with the Forest Plan that has come into effect since the previous documents were prepared and will make improvements to the cumulative effects sections. The EIS addresses potential environmental impacts of replacing pine plantations in the German Ridge area of Perry County, Indiana with native hardwood communities.

DATES: The Draft supplement to the environmental impact statement is expected in September 2006, and the final supplement to the environmental impact statement is expected in December 2006.

ADDRESSES: Send written comments to Kenneth Day, Forest Supervisor; Hoosier National Forest; 811 Constitution Avenue; Bedford, IN 47421. Send electronic comments to r9_hoosier_website@fs.fed.us.

FOR FURTHER INFORMATION CONTACT: Ron Ellis, NEPA Coordinator, Hoosier National Forest, USDA Forest Service; telephone: 812-275-5987. See address above. Copies of documents may be requested at the same address. Information concerning the project can also be obtained on the Forest Web page at http:/www.fs.fed.us/r9/hoosier/projects.htm.

SUPPLEMENTARY INFORMATION: On January 24,m 2oo6, Acting Forest Supervisor James L. Lowe singed a record of decision (ROD) and released the final EIS for the German Ridge Restoration Project. This EIS and ROD were appealed to the Regional. Forester for the Eastern Region of the Forest Service. The appellants raised numerous issues, including the adequacy of the cumulative effects analysis in the final EIS. The Regional Forester upheld the decision on most points but reversed the decision because of an incomplete analysis of cumulative effects for some resources. I have decided the public can be best served by preparing a Supplement to the EIS.

This notice begins the public involvement processed for the Supplement. The proposed action, the purpose and need, the issues, and the alternatives remain unchanged from the January 2006 final, EIS.

Responsible Official

Kenneth G. Day, Forest Supervisor; Hoosier National Forest; 811 Constitution Avenue; Bedford, Indiana 47421.

Nature of Decision To Be Made

The decision to be made is whether or not to actively convert any or all of the 2,180 acres of pine plantations to native hardwood communities by harvesting and prescribed burning.

Early Notice of Public Participation in Subsequent Environmental Review: A draft supplemental to the environmental impact statement will be prepared for comment. The comment period on the draft statement will be 45 days from the date the Environmental Protection Agency publishes the notice of availability in the Federal Register. The Forest Service believes, at this early stage, it is important to give reviewers notice of several court rulings related to public participation in the environmental review process. First reviewers of draft environmental impact statements must structure their participation in the environmental review of the proposal so that it is meaningful and alerts an agency to the reviewer's position and contentions. Vermont Yankee Nuclear Power Corp. v. NRDC, 435 U.S. 519, 553 (1978).

Also, environmental objections that could be raised at the draft supplemental environmental impact statement stage but that are not raised until after completion of the final supplement to the environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is important that those interested in this proposed action participate by the close of the 45-day comment period so that comments are made available to the Forest Service at a time when it can meaningfully consider them and respond to them in the final environmental impact statement. To assist the Forest Service in identifying and considering issues and concerns on the proposed action, comments on the proposed draft supplemental environmental impact statement should be as specific as possible. It is also helpful if comments refer to specific pages or chapters of the draft statement (Authority 40 CFR 1501.7 and 1508.22; Forest Service Handbook 1909.15, Section 20).

Dated July 18, 2006.
Kenneth G. Day,
Forest Supervisor, Hoosier National Forest.

[FR Doc. 06-6561 Filed 7-27-06; 8:45 am]

BILLING CODE 3410-11-M